FEDERAL COMMUNICATIONS COMMISSION

47 CFR Part 15

[ET Docket No. 18-295 and GN Docket No. 17-183; FCC 23-86; FR ID 192755]

Unlicensed Use of the 6 GHz Band; and Expanding Flexible Use in Mid-Band Spectrum Between 3.7 and 24 GHz; Correction

AGENCY: Federal Communications Commission.

ACTION: Proposed rule; correction.

SUMMARY: The Federal Communications Commission is correcting the docket numbers for commenters under the preamble section titled, ADDRESSES, of the proposed rule that appeared in the Federal Register on February 26, 2024.

FOR FURTHER INFORMATION CONTACT: Nicholas Oros of the Office of Engineering and Technology, at Nicholas.Oros@fcc.gov or 202-418-0636.

SUPPLEMENTARY INFORMATION:

Correction

In FR Doc. 2023-28620 in the Federal Register of February 26, 2024, the following correction is made: On page 14016 in the first column and first sentence in ADDRESSES of the preamble, “ET Docket No. 13-115 and RM-11341” is corrected to read “ET Docket No. 18-295 and GN Docket No. 17-183”.

Federal Communications Commission.
Marlene Dortch,
Secretary.

[FR Doc. 2024-04494 Filed 3-1-24; 8:45 am]

BILLING CODE 6712-01-P